DEPARTMENT OF THE TREASURY

Fiscal Service

Bureau of the Fiscal Service; Senior Executive Service; Fiscal Service Performance Review Board

AGENCY: Bureau of the Fiscal Service, Treasury.

ACTION: Notice of Appointments to the Fiscal Service Performance Review Board.

SUMMARY: This notice announces the appointment of the members of the Fiscal Service Performance Review Board (PRB) for the Bureau of the Fiscal Service (Fiscal Service). The PRB reviews the performance appraisals of career senior executives who are below the level of Assistant Commissioner/Executive Director and who are not assigned to the Office of the Commissioner in the Fiscal Service. The PRB makes recommendations regarding proposed performance appraisals, ratings, bonuses, pay adjustments, and other appropriate personnel actions.

DATES: Applicable on November 13, 2017.

FOR FURTHER INFORMATION CONTACT: Randy L. Thornton, Chief Human Capital Officer, Bureau of the Fiscal Service, (202) 874-5147.

SUPPLEMENTARY INFORMATION: This Notice announces the appointment of the following primary and alternate members to the Fiscal Service PRB:

Primary Members:

Stephen L. Manning, Deputy Commissioner, Finance & Administration, Fiscal Service

Dara N. Seaman, Assistant Commissioner, Wholesale Securities Services, Fiscal Service

Douglas Anderson, Assistant Commissioner, Shared Services, Fiscal Service

Alternate Member:

John B. Hill, Assistant Commissioner, Financial Innovation & Transformation, Fiscal Service

Authority: 5 U.S.C. Section 4314(c)(4)

Sheryl R. Morrow,
Commissioner, Bureau of the Fiscal Service.

[FR Doc. 2017-24513 Filed 11-9-17; 8:45 am]

BILLING CODE 4810-AS-P